DEPARTMENT OF COMMERCE

[Docket No. 151028999-6030-02]

Privacy Act of 1974, Amended System of Records

AGENCY: National Oceanic and Atmospheric Administration, U.S. Department of Commerce.

ACTION: Notice of Proposed Amendment to Privacy Act System of Records: COMMERCE/NOAA-1, Applicants for the NOAA Corps.

SUMMARY: The Department of Commerce publishes this notice to announce the effective date of a Privacy Act System of Records notice entitled Notice of Proposed Amendment to COMMERCE/NOAA-1, Applicants for the NOAA Corps.

DATES: The system of records becomes effective on January 19, 2016.

ADDRESSES: For a copy of the system of records please mail requests to: Sarah Brabson, NOAA Office of the Chief Information Officer, Room 9856, 1315 East-West Highway, Silver Spring, MD 20910.

FOR FURTHER INFORMATION CONTACT: Director, NOAA Corps, 8403 Colesville Road, Suite 500, National Oceanic and Atmospheric Administration, Silver Spring, Maryland 20910.

SUPPLEMENTARY INFORMATION: On November 25, 2015 (80 FR 73698), the Department of Commerce published a notice in the Federal Register, entitled “COMMERCE/NOAA-1, Applicants for the NOAA Corps,” requesting comments on proposed amendments to the system of records. The November 25, 2015, notice stated that the amended system of records will become effective on the date of publication of a subsequent notice, unless comments are received. No comments were received in response to the request for comments. Accordingly, by this notice, the Department of Commerce is adopting the proposed changes to the system as final without changes effective January 19, 2016.

Dated: January 12, 2016.
Michael J. Toland,
Department of Commerce, Freedom of Information and Privacy Act Officer.

[FR Doc. 2016-00833 Filed 1-15-16; 8:45 am]

BILLING CODE 3510-22-P